DEPARTMENT OF THE TREASURY

Office of Foreign Assets Control

Designation of 5 Individuals and 7 Entities Pursuant to Executive Order 13224 of September 23, 2001, “Blocking Property and Prohibiting Transactions With Persons Who Commit, Threaten To Commit, or Support Terrorism”

AGENCY: Office of Foreign Assets Control, Treasury.

ACTION: Notice.

SUMMARY: The Treasury Department's Office of Foreign Assets Control (“OFAC”) is publishing the names of 5 individuals and 7 entities whose property and interests in property are blocked pursuant to Executive Order 13224 of September 23, 2001, “Blocking Property and Prohibiting Transactions With Persons Who Commit, Threaten To Commit, or Support Terrorism.”

DATES: The designations by the Director of OFAC of the 5 individuals and 7 entities in this notice, pursuant to Executive Order 13224, are effective on July 10, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On July 10, 2014 the Director of OFAC, in consultation with the Departments of State, Homeland Security, Justice and other relevant agencies, designated, pursuant to one or more of the criteria set forth in subsections 1(b), 1(c) or 1(d) of the Order, 5 individuals and 7 entities whose property and interests in property are blocked pursuant to Executive Order 13224.

The listings for these individuals and entities on OFAC's list of Specially Designated Nationals and Blocked Persons appear as follows:

Individuals

1. AMHAZ, Issam Mohamad (a.k.a. AMHAZ, 'Isam; a.k.a. AMHAZ, Issam Mohamed), Ghadir, 5th Floor, Safarat, Bir Hassan, Jenah, Lebanon; Issam Mohamad Amhaz Property, Ambassades (Safarate), Bir Hassan Area, Ghobeiri, Baabda, Lebanon; DOB 04 Mar 1967; POB Baalbek, Lebanon; nationality Lebanon; Passport RL0000199 (Lebanon); Identification Number 61 Nabha; Chairman, Stars Group Holding; General Manager, Teleserveplus (individual) [SDGT].

2. AMHAZ, Kamel Mohamad (a.k.a. AL-AMHAZ, Kamel; a.k.a. AMHAZ, Kamel; a.k.a. AMHAZ, Kamel Mohamed; a.k.a. AMHAZ, Kamil), 5th Floor, Ghadir Building, Kods Street, Haret Hreik, Baabda, Lebanon; Ghadir, 5th Floor, Safarat, Bir Hassan, Jenah, Lebanon; Ghadir 5th Floor, Embassies Street, Bir Hasan, Lebanon; Dallas Center, Saida Old Street, Chiah, Baabda, Lebanon; DOB 04 Aug 1973; nationality Lebanon; Passport RL2244333 (Lebanon); Identification Number 61 Niha El-Mehfara; President and Chief Executive Officer, Stars Group Holding (individual) [SDGT].

3. IBRAHIM, Ayman (a.k.a. IBRAHIM, Ayman Ahmad); DOB 01 Apr 1979; POB 'Adlun, Lebanon; General Manager, Unique Stars Mobile Phones LLC (individual) [SDGT] (Linked To: UNIQUE STARS MOBILE PHONES LLC).

4. KHALIFEH, Hanna Elias (a.k.a. KHALIFAH, Hanna; a.k.a. KHALIFE, Hanna), Midan Street, Mazraat Yachouh, Metn, Lebanon; Asaad Karam Building, Midan Street, Mazraat Yachouh, Lebanon; DOB 09 Jul 1955; nationality Lebanon; Passport RL2033216 (Lebanon) (individual) [SDGT].

5. ZEAITER, Ali (a.k.a. ZOEITER, Ali; a.k.a. ZU'AYTAR, 'Ali; a.k.a. ZU'AYTIR, Ali Husayn), Tianhelu 351 Hao, Tianhequ, Guangzhou, China; Room 2203A, Grand Tower, No. 228 Tianhe Road, Tianhe District, Guangzhou, China; Room 2203A, Guangcheng Building, No. 228 Tianhe Road, Guangzhou, China; 204 No. 253 Tianhebei Road, Guangzhou, China; DOB 24 Feb 1977; nationality Lebanon; Passport RL1924321 (Lebanon); alt. Passport RL0877465 (Lebanon); General Manager, Stars International Ltd (individual) [SDGT].

Entities

1. FASTLINK SARL (a.k.a. FAST LINK SAL), Hadi Nasrallah Av, MEAB Building, 1st Floor, Beirut, Lebanon; Cendrella Street, Dalas Center, Chyah, Baabda, Lebanon; Dallas, 6th Floor, Saida Old Road, Chiyah, Beirut, Lebanon [SDGT] (Linked To: STARS GROUP HOLDING).

2. STARS COMMUNICATIONS LTD (a.k.a. STARS COMMUNICATIONS; a.k.a. STARS COMMUNICATIONS LLC; a.k.a. STARS COMMUNICATIONS LTD SARL), Hadi Nasrallah Av, MEAB Building, 1st Floor, Beirut, Lebanon; Bir el Abed, Snoubra Street, Haret Hreyk, Beirut, Lebanon; Tayyouneh, Haret Hreyk, Beirut, Lebanon; Port, Nahr, Beirut, Lebanon; Ras El Ain, Baalbeck, Lebanon; Hadeth, Lebanon; Nabatiyeh, Lebanon; Old Saida Road, Beirut Mall, Beirut, Lebanon; Duty-Free Airport, Rafik Hariri International Airport, Beirut, Lebanon; Sharl Helo Street, Beirut Seaport, Lebanon; Kamil Shamoun Street, Dekwaneh, Beirut, Lebanon; Hermel, Lebanon; Commercial Registry Number 2001929 (Lebanon) [SDGT] (Linked To: AMHAZ, Kamel Mohamad; Linked To: STARS GROUP HOLDING).

3. STARS COMMUNICATIONS OFFSHORE SAL (a.k.a. STARS COMMUNICATION SAL OFF-SHORE; a.k.a. STARS COMMUNICATIONS OFFSHORE; a.k.a. STARS OFFSHORE), Hojeij Building, 2nd Floor, Zaghloul Street, Haret Hreik, Baabda, Lebanon; Bdeir Building, Ground Floor, Snoubra Street, Ghobeiry, Baabda, Lebanon; Hadi Nasrallah Av, MEAB Building, 1st Floor, Beirut, Lebanon; Commercial Registry Number 1801374 (Lebanon) [SDGT] (Linked To: STARS GROUP HOLDING).

4. STARS GROUP HOLDING (a.k.a. STARS GROUP HOLDING SAL; a.k.a. STARS GROUP SAL (HOLDING)), Property Number 5208/62, Issam Mohamed Amha, 6th Floor, Dallas Center, Old Saida Road, C, Lebanon; Postal Box 13-5483, Lebanon; Bdeir Building, Snoubra Street, Bir El-Abed Area, Haret Hreik, Baabda, Lebanon; Bir El Abed, Hadi Nasrallah Highway, Middle East & Africa Bank Building, First Floor, Beirut, Lebanon; Old Saida Road, Dallas Center, 6th Floor, Beirut, Lebanon; Web site: www.starscom.net; Commercial Registry Number 1901453 (Lebanon) [SDGT] (Linked To: AMHAZ, Kamel Mohamad).

5. STARS INTERNATIONAL LTD (a.k.a. STARS INTERNATIONAL CO. LTD), Room 2203A, Grand Tower, No. 228 TianHe Road, TianHe District, Guangzhou, China; F-18, Dubai Airport Free Zone, Dubai, United Arab Emirates [SDGT] (Linked To: ZEAITER, Ali; Linked To: STARS GROUP HOLDING).

6. TELESERVE PLUS SAL (a.k.a. TELESERVEPLUS), 4th Floor, Dalas Center, Old Saida Road, Chiyah, Baabda, Lebanon; Postal Box 13-5483, Lebanon; Old Saida Avenue, Dallas Center, 6th Floor, Beirut, Lebanon; 6th Floor, Dallas Center, Old Saida Road, Chiyah, Baabda, Lebanon; Web site www.teleserveplus.com; Commercial Registry Number 2004609 (Lebanon) [SDGT] (Linked To: STARS GROUP HOLDING).

7. UNIQUE STARS MOBILE PHONES LLC (a.k.a. UNIQUE STARS LLC), Postal Box 98498, Dubai, United Arab Emirates; Al Maktoum Road, Deira, Al Kabira Building, First Floor, Office #103, PO Box 98498, Dubai, United Arab Emirates; Office 103, 1st Floor, Sheikh Rashed Building, Al Maktoum Road, Deira, DXB Municipality, Dubai, United Arab Emirates; Gargash Center, Nasser Square, Shop No. 41, Dubai, United Arab Emirates; Dubai Chamber of Commerce Membership No. 116340; Commercial Registry Number 591610 (United Arab Emirates) [SDGT] (Linked To: STARS GROUP HOLDING; Linked To: IBRAHIM, Ayman).

Dated: July 10, 2014.
Barbara C. Hammerle,
Acting Director, Office of Foreign Assets Control.

[FR Doc. 2014-16754 Filed 7-15-14; 8:45 am]

BILLING CODE 4810-AL-P